Executive Order 13317 of September 25, 2003

Volunteers for Prosperity

By the authority vested in me as President by the Constitution and the laws of the United States of America, and in order to encourage volunteer service by highly skilled Americans to support major initiatives by the United States for promoting health and prosperity around the world, it is hereby ordered as follows:

Section 1. (a) Policy. A part of USA Freedom Corps, “Volunteers for Prosperity” is a call to service to support major U.S. initiatives that promote health and prosperity around the world. Deploying highly skilled volunteers abroad is an efficient way to use our resources consistent with the objectives of the United States Government's global prosperity agenda. United States volunteers will help to achieve the objectives of the global prosperity agenda, including providing clean water to the poor, promoting democratic governance, developing economic freedom, promoting free and open markets, and stemming the spread of HIV/AIDS.

The investment of Federal resources to enable U.S. volunteers to work with nongovernmental and voluntary service organizations overseas is a preferred use of our resources and also will help leverage private sector resources. United States citizens who are skilled professionals and who volunteer, when matched with organizations working on specific U.S. prosperity initiatives overseas, can provide invaluable support for these initiatives and will supplement and complement the traditions and accomplishments of the Peace Corps.

United States prosperity initiatives that can benefit from volunteer service include, but are not limited to, the Emergency Plan for AIDS Relief, the Digital Freedom Initiative, the Water for the Poor Initiative, the Trade for African Development and Enterprise Initiative, and the Middle East Partnership Initiative.

Volunteer service in support of other initiatives, consistent with U.S. foreign policy, shall be considered as well.

(b) Applicability. The following agencies are subject to the requirements of this order: the United States Agency for International Development (USAID), the Department of State, the Department of Commerce, the Department of Health and Human Services, and such other Federal agencies as the President may designate in the future.

Sec. 2. Establishment. (a) Agencies subject to this order shall each establish within their respective organizations an Office for Volunteers for Prosperity (Office) or, as appropriate, an operating unit within an office.

(b) Each agency subject to this order shall provide its Office or unit with appropriate staff, administrative support, and resources to meet its responsibilities under this order.

(c) Each of these Offices or units shall begin operations no later than 30 days from the date of this order.

(d) Agencies subject to this order shall consider, in evaluating grant applications for assistance activities to be implemented abroad, the applicant's use of highly skilled U.S. volunteers to support U.S. prosperity objectives and initiatives.

Sec. 3. Purpose. To the extent permitted by law, the purpose of the Offices will be to promote, expand, and enhance well-defined volunteer service opportunities for highly skilled U.S. professionals who wish to work with nongovernmental and voluntary service organizations around the world in support of major U.S. prosperity initiatives as identified in section 1 of this order. Such promotion, expansion, and enhancement would include actively participating in the design and selection processes for grants within their agencies, tracking the use of U.S. private volunteer organizations by their agencies, and coordinating with White House Offices including the USA Freedom Corps, the Office of National AIDS Policy, and the Office of Faith-Based and Community Initiatives, as appropriate.

Sec. 4. Funding. Agencies subject to this order are hereby directed to use their best efforts to use funds available for the U.S. prosperity initiatives listed in section 1 of this order to provide appropriate support to organizations that use highly skilled U.S. volunteers to accomplish the objectives identified in those initiatives.

Sec. 5. Coordination. The USAID shall serve as the inter-agency coordinator for the Volunteers for Prosperity initiative. In that capacity, the USAID shall coordinate the activities that fall within the scope of the initiative and report on the progress of the initiative to the USA Freedom Corps Office, within the White House Office. The reports shall be submitted within 180 days after the date of this order and annually thereafter. The USA Freedom Corps Council shall encourage consistency in policies and practices within the agencies subject to this order, as appropriate, for purposes related to the Volunteers for Prosperity initiative.

Sec. 6. Administration. The actions directed by this order shall be carried out subject to the availability of appropriations, to the extent permitted by law, and consistent with the agencies' missions.

Sec. 7. Judicial Review. This order is intended only to improve the internal management of the executive branch of the Federal Government, and it is not intended to, and does not, create any right or benefit, substantive or procedural, enforceable at law or in equity, against the United States, its departments, agencies, or other entities, its officers or employees, or any other person.

B

THE WHITE HOUSE,

September 25, 2003.

[FR Doc. 03-24919

Filed 9-29-03; 8:45 am]

Billing code 3195-01-P